FEDERAL COMMUNICATIONS COMMISSION

[FR ID 286620]

Open Commission Meeting Thursday, March 27, 2025

March 20, 2025.

The Federal Communications Commission will hold an Open Meeting on the subjects listed below on Thursday, March 27, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Telecommunications | Title: Exploring Alternatives to GPS (WT Docket No. 25-110).
|  | Summary: The Commission will consider a Notice of Inquiry that would engage a wide range of stakeholders to build a record on specific actions it can take to help develop complements and alternatives to the Global Positioning System with the goal of ensuring robust and reliable Positioning, Navigation, and Timing technologies and solutions.
2 | Public Safety and Homeland Security | Title: Facilitating Implementation of Next Generation 911 Services (NG911) (PS Docket No. 21-479); Improving 911 Reliability (PS Docket No. 13-75).
|  | Summary: The Commission will consider a Further Notice of Proposed Rulemaking to safeguard the nation's Next Generation 911 (NG911) transition by ensuring the reliability and interoperability of NG911 networks.
3 | Public Safety and Homeland Security | Title: Strengthening 911 Location Accuracy Rules (PS Docket No. 07-114).
|  | Summary: The Commission will consider a Sixth Further Notice of Proposed Rulemaking that proposes to strengthen caller location accuracy requirements for wireless calls to 911.
4 | Media Bureau | Title: Restricted Adjudicatory Matter.
|  | Summary: The Commission will consider a restricted adjudicatory matter from the Media Bureau.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at (202) 418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2025-05142 Filed 3-25-25; 8:45 am]

BILLING CODE 6712-01-P